DEPARTMENT OF COMMERCE

National Oceanic and Atmospheric Administration

50 CFR Part 665

[Docket No. 101210611-1080-02]

RIN 0648-BA58

Hawaii Bottomfish and Seamount Groundfish Fisheries; Modification to Advance Notification Period for Fishery Closures

AGENCY: National Marine Fisheries Service (NMFS), National Oceanic and Atmospheric Administration (NOAA), Commerce.

ACTION: Proposed rule; request for comments.

SUMMARY: This proposed rule would change the advance notification period for in-season closure of the main Hawaiian Islands (MHI) Deep-7 bottomfish fishery to seven days from the current 14 days. The intent of the proposed change is to enhance administration of the fishery.

DATES: Comments on the amendment must be received by March 1, 2011.

ADDRESSES: Comments on the proposed rule, identified by 0648-BA58, may be sent to either of the following addresses:

• Electronic Submission: Submit all electronic public comments via the Federal e-Rulemaking Portal http://www.regulations.gov; or

• Mail: Mail written comments to Michael D. Tosatto, Regional Administrator, NMFS, Pacific Islands Region (PIR), 1601 Kapiolani Blvd., Suite 1110, Honolulu, HI 96814-4700.

Instructions: Comments must be submitted to one of these two addresses to ensure that the comments are received, documented, and considered by NMFS. Comments sent to any other address or individual, or received after the end of the comment period, may not be considered. All comments received are a part of the public record and will generally be posted to http://www.regulations.gov without change. All personal identifying information (e.g., name, address, etc.) submitted voluntarily by the commenter may be publicly accessible. Do not submit confidential business information, or otherwise sensitive or protected information. NMFS will accept anonymous comments (enter “NA” in the required fields if you wish to remain anonymous). Attachments to electronic comments will be accepted in Microsoft Word or Excel, WordPerfect, or Adobe PDF file formats only.

FOR FURTHER INFORMATION CONTACT: Jarad Makaiau, NMFS PIR Sustainable Fisheries, 808-944-2108.

SUPPLEMENTARY INFORMATION: The MHI Deep 7 bottomfish are onaga (Etelis coruscans), ehu (E. carbunculus), gindai (Pristipomoides zonatus), kalekale (P. sieboldii), opakapaka (P. filamentosus), lehi (Aphareus rutilans), and hapuupuu (Epinephelus quernus). The Deep 7 fishery is managed under a total allowable catch (TAC) limit. The TAC is specified each fishing year by NMFS, as recommended by the Western Pacific Fishery Management Council (Council) based on the best available scientific, commercial, and other information. The fishing year begins on September 1, and if the TAC is not reached, the fishing year ends on August 31. NMFS and the State of Hawaii monitor progress towards the TAC based on commercial bottomfish landings data submitted to the State by commercial marine license (CML) holders. When bottomfish landings approach the TAC, NMFS, the State of Hawaii, and the Council meet to determine the specified date the TAC is projected to be reached.

Pursuant to Federal regulations at 50 CFR 665.211, when the specified TAC is projected to be reached, NMFS notifies fishermen and the public of the date when the non-commercial and commercial Deep-7 bottomfish fisheries will be closed, through a notice in the Federal Register and by other means. The regulations require that NMFS provide at least 14 days from the date the notice is filed for public inspection at the Office of the Federal Register to the actual closure date. The 14-day advanced notification period has created an administrative challenge for NMFS, in that it requires the agency to determine the projected closure date at least three weeks in advance of actual closure so that the closure notice can be processed to provide the required 14-day notice. This requires projecting the closure date further in advance than is necessary and with less complete information compared to this proposed action.

Trip reports submitted to the State of Hawaii by the 500+ state CML holders who reported fishing for bottomfish indicate that the vast majority of fishermen engage in single day trips, i.e., lasting less than 24 hours. Only 12 fishermen reported multi-day bottomfish trips, and those trips lasted only three days or less. Based on this information about the fishery, and on the need for more time to process the closure notice, the Council recommended that NMFS shorten the advance notice period to seven days.

The objective of the proposed action is to enhance administration of the fishery by streamlining the advanced notification period. A seven-day notification period would continue to provide ample time for fishermen to be made aware of the in-season closure. (By comparison, NMFS provides seven days advance notification when closing the commercial longline fishery; this has been ample time for longliners, even when their trips last up to six weeks.) Additionally, shortening the advance notification period from 14 to seven days allows the agency to determine the projected closure date closer to the actual closure. This is because the seven additional days can be allocated to processing and analyzing catch data. This could increase precision in forecasting the closure date, and also facilitate adherence to the catch limit by reducing the number of days fish could be caught once a closure notice is announced.

Up-to-date catch information is posted at http://www.fpir.noaa.gov throughout the fishing year to show the cumulative progress towards the TAC. With this information, fishermen are able to see an estimate of when the fishery may close and are able to plan accordingly. Additionally, prior to the closure date, letters notifying bottomfish fishermen of the closure date are mailed to permit holders, and advisements of the closure date are announced to the public in local news media.

To be considered, comments on this proposed rule must be received by March 1, 2011, not postmarked or otherwise transmitted by that date.

Classification

Pursuant to section 304(b)(1)(A) of the Magnuson-Stevens Fishery Conservation and Management Act, 16 U.S.C. 1854(b)(1)(A), the NMFS Assistant Administrator has determined that this proposed rule is consistent with the Fishery Ecosystem Plan for the Hawaiian Archipelago, other provisions of the Magnuson-Stevens Act, and other applicable laws, subject to further consideration after public comment.

This proposed rule has been determined to be not significant for purposes of Executive Order 12866.

The Chief Counsel for Regulation of the Department of Commerce certified to the Chief Counsel for Advocacy of the Small Business Administration that this proposed rule, if adopted, would not have a significant economic impact on a substantial number of small entities. The analysis follows:

The proposed rule is administrative in nature, and would change the advance notification period for closure of the main Hawaiian Islands (MHI) Deep-7 bottomfish fishery to seven days from the current 14 days. A description of the action, why it is being considered, and the legal basis are contained in the preamble to this proposed rule.

All fishing vessels that participate in the MHI Deep 7 bottomfish fishery are considered to be small entities under the Small Business Administration definition of a small entity, i.e., they are engaged in the business of fish harvesting, are independently-owned or operated, are not dominant in their field of operation, and have annual gross receipts not in excess of $4 million. Therefore, there are no disproportionate economic impacts between large and small entities, and the proposed action is not expected to have any impact on these small entities. Trip reports submitted to the State of Hawaii by the 500+ state CML holders who reported fishing for bottomfish indicate that the vast majority of fishermen engage in single day trips, i.e., lasting less than 24 hours. Only 12 fishermen reported multi-day bottomfish trips, and those trips lasted only three days or less. Therefore, a seven-day notification period would provide ample time for all fishery participants to be made aware of the in-season closure. Additionally, shortening the advance notification period from 14 to seven days allows the agency to determine the projected closure date closer to the actual closure. This is because the seven additional days can be allocated to processing and analyzing catch data. This could increase precision in forecasting the closure date, and also facilitate adherence to the catch limit by reducing the number of days fish could be caught once a closure notice is announced.

This rule does not duplicate, overlap, or conflict with other Federal rules.

As a result, an initial regulatory flexibility analysis is not required and none has been prepared.

List of Subjects in 50 CFR Part 665

Bottomfish, Fishing, Hawaii.

Dated: February 8, 2011.
Samuel D. Rauch III,
Deputy Assistant Administrator for Regulatory Programs, National Marine Fisheries Service.

For the reasons set out in the preamble, 50 CFR part 665 is proposed to be amended as follows:

PART 665—FISHERIES IN THE WESTERN PACIFIC

l. The authority citation for part 665 continues to read as follows:

Authority: 16 U.S.C. 1801 et seq.

2. In § 665.211, revise paragraph (c) to read as follows:

§ 665.211 Total allowable catch (TAC) limit.

* * * * *

(c) When the TAC limit specified in this section is projected to be reached based on analyses of available information, the Regional Administrator shall publish a notice to that effect in the Federal Register and shall use other means to notify permit holders. The notice will include an advisement that the fishery will be closed beginning at a specified date, which is not earlier than seven days after the date of filing the closure notice for public inspection at the Office of the Federal Register, until the end of the fishing year in which the TAC is reached.

* * * * *

[FR Doc. 2011-3244 Filed 2-11-11; 8:45 am]

BILLING CODE 3510-22-P